DEPARTMENT OF COMMERCE

International Trade Administration

[A-201-802]

Final Results of Antidumping Duty Changed-Circumstances Review: Gray Portland Cement and Clinker From Mexico

AGENCY: Import Administration, International Trade Administration, Department of Commerce.

SUMMARY: On July 11, 2007, the Department of Commerce (the Department) published the preliminary results of the changed-circumstances review of the antidumping duty order on gray portland cement and clinker from Mexico. The review covers one manufacturer/exporter, Holcim Apasco, S.A. de C.V. (Apasco). The changed-circumstances review covers exports of subject merchandise to the United States during the period October 1, 2006, through December 31, 2006.

Based on our analysis of the comments received, we have made changes in the margin calculations. Therefore, the final results differ from the preliminary results. The final weighted-average dumping margin is provided in the “Final Results of Review” section of this notice.

EFFECTIVE DATE: November 1, 2007.

FOR FURTHER INFORMATION CONTACT: Hermes Pinilla or Minoo Hatten, AD/CVD Operations, Office 5, Import Administration, International Trade Administration, U.S. Department of Commerce, 14th Street and Constitution Avenue, NW, Washington, DC 20230; telephone: (202) 482-3477 and (202) 482-1690, respectively.

SUPPLEMENTARY INFORMATION:

Background

On July 11, 2007, the Department published in the Federal Register the preliminary results of the changed-circumstances review of the antidumping duty order on gray portland cement and clinker from Mexico. See Preliminary Results of Antidumping Duty Changed-Circumstances Review: Gray Portland Cement and Clinker From Mexico, 72 FR 37711 (July 11, 2007) (Preliminary Results).

We invited parties to comment on the Preliminary Results and on our findings at verification. We received case briefs from Apasco and the Southern Tier Cement Committee (the petitioner) on September 7, 2007. We received rebuttal briefs from Apasco and the petitioner on September 14, 2007.

Scope of the Order

The products covered by this order include gray portland cement and clinker. Gray portland cement is a hydraulic cement and the primary component of concrete. Clinker, an intermediate material product produced when manufacturing cement, has no use other than being ground into finished cement. Gray portland cement is currently classifiable under Harmonized Tariff Schedule of the United States (HTSUS) item number 2523.29 and cement clinker is currently classifiable under HTSUS item number 2523.10. Gray portland cement has also been entered under HTSUS item number 2523.90 as “other hydraulic cements.” The HTSUS subheadings are provided for convenience and customs purposes only. The Department's written description remains dispositive as to the scope of the product coverage.

Analysis of Comments Received

All issues raised in the case and rebuttal briefs by parties to this changed-circumstances review, and to which we have responded, are listed in the Appendix to this notice and addressed in the “Issues and Decision Memorandum” (Decision Memorandum) from Stephen J. Claeys, Deputy Assistant Secretary, to David M. Spooner, Assistant Secretary for Import Administration, dated October xx, 2007, which is hereby adopted by this notice. The Decision Memorandum is on file in Import Administration's Central Records Unit, Room B-099 of the main Department building. In addition, a complete version of the Decision Memorandum is available on the Internet at http://ia.ita.doc.gov/frn/index.html. The paper copy and electronic version of the Decision Memorandum are identical in content.

Changes Since the Preliminary Results

Based on our analysis of comments received, we have made certain changes in our to our calculations. In addition, we made corrections as a result of the verification of Apasco's information, which we conducted from July 23, through July 27, 2007. These changes are discussed in the Final Results Analysis Memorandum from the case analyst to the File dated October 25, 2007.

Final Results of Review

We determine that the weighted-average margin for merchandise produced and exported by Apasco for the changed-circumstances review covering the period October 1, 2006, through December 31, 2006 is 29.19 percent.

Assessment Rates

The Department shall determine, and U.S. Customs and Border Protection (CBP) shall assess, antidumping duties on all appropriate entries. We will issue appropriate assessment instructions directly to CBP 41 days after the date of publication of these final results of this changed-circumstances review. In accordance with 19 CFR 351.212(b)(1), we have calculated an importer-specific assessment rate for merchandise subject to this review. Because Apasco reported the entered value for its export-price sales, we divided the total dumping margins for the reviewed sales by the total entered value of those reviewed sales for the importer of record.

The Department clarified its “automatic assessment” regulation on May 6, 2003 (68 FR 23954). This clarification will apply to entries of subject merchandise during the period of review produced by the company included in the final results of review for which the reviewed company did not know its merchandise was destined for the United States. In such instances, we will instruct CBP to liquidate unreviewed entries at the all-others rate if there is no rate for the intermediate company(ies) involved in the transaction. For a full discussion of this clarification, see Notice of Policy Concerning Assessment of Antidumping Duties, 68 FR 23954 (May 6, 2003).

Cash-Deposit Requirements

As provided by section 751(a)(1) of the Act, the cash-deposit rate for all shipments from Apasco of the subject merchandise entered, or withdrawn from warehouse, for consumption on or after the publication date of the final results of changed-circumstances review will be the rate established in these final results of changed-circumstances review. The deposit requirements shall remain in effect until further notice.

Notification

This notice serves as a reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305. Timely notification of the return or destruction of APO materials or conversion to judicial protective order is hereby requested. Failure to comply with the regulations and the terms of an APO are sanctionable violations.

We are issuing and publishing these final results of changed-circumstances review and notice in accordance with section 777(i)(1) of the Act and 19 CFR 351.221(b)(5).

Dated: October 25, 2007.
David M. Spooner,
Assistant Secretary for Import Administration.

Appendix-Issues in the Decision Memo

1. Difference-in-Merchandise Adjustment

2. Level of Trade

3. Bag vs. Bulk

4. Profit-Sharing/Cost Test

[FR Doc. E7-21541 Filed 10-31-07; 8:45 am]

BILLING CODE 3510-DS-S